DEPARTMENT OF COMMERCE

International Trade Administration

[A-570-803]

Heavy Forged Hand Tools, Finished or Unfinished, With or Without Handles, From the People's Republic of China: Extension of Time Limit for the Final Results of the Antidumping Duty Administrative Review

AGENCY: Import Administration, International Trade Administration, Department of Commerce.

EFFECTIVE DATE: June 27, 2005.

FOR FURTHER INFORMATION CONTACT: Paul Walker, AD/CVD Operations, Office 9, Import Administration, International Trade Administration, U.S. Department of Commerce, 14th Street and Constitution Avenue, NW, Washington, DC 20230; telephone (202) 482-0413.

SUPPLEMENTARY INFORMATION:

Background

The Department of Commerce (the “Department”) published the preliminary results of the antidumping duty administrative review on heavy forged hand tools (“HFHTs”) from the People's Republic of China (“PRC”) on March 10, 2005. See Heavy Forged Hand Tools, Finished or Unfinished, With or Without Handles, From the People's Republic of China: Preliminary Results of Administrative Reviews and Preliminary Partial Rescission of Antidumping Duty Administrative Reviews, 70 FR 11934 (March 10, 2005). The Department is now extending the time limit for completion of the final results of the antidumping duty administrative review on HFHTs from the PRC.

Extension of Time Limit for the Final Results

Pursuant to section 751(a)(3)(A) of the Tariff Act of 1930, as amended (“the Act”), the Department shall issue the final results in an administrative review of an antidumping duty order within 120 days after the date on which the preliminary results are published. However, if it is not practicable to complete the review within the time period, section 751(a)(3)(A) of the Act allows the Department to extend this deadline to a maximum of 180 days.

The Department finds that it is not practicable to complete the final results in the administrative review of HFHTs from the PRC within the originally anticipated time limit (i.e., by July 8, 2005), because we are currently analyzing particularly complicated factors of production information, as well as information collected during verification. In addition, in order to provide parties sufficient time to comment on our preliminary results, the Department is extending the time limit for completion of the final results until no later than September 6, 2005, in accordance with Section 751(a)(3)(A) of the Act.

We are issuing and publishing this notice in accordance with Section 751(a)(1) and 777(i)(1) of the Act.

Dated: June 9, 2005.
Barbara E. Tillman,
Acting Deputy Assistant Secretary for Import Administration.

[FR Doc. E5-3336 Filed 6-24-05; 8:45 am]

BILLING CODE 3510-DS-S